DEPARTMENT OF JUSTICE

Notice of Lodging of Proposed Consent Decree Under the Clean Air Act

On April 23, 2013, the Department of Justice lodged a proposed Consent Decree with the United States District Court for the Northern District of Iowa in the lawsuit entitled United States v. Beef Products Inc., Civil Action No. 6:13-cv-02031 [Dkt. #2].

In this action the United States seeks civil penalties against Beef Products, Inc. (“BPI”) in connection with BPI's system of storing and using anhydrous ammonia at its meat processing facility in Waterloo, Iowa (the “Waterloo Facility”), in violation of Section 112(r)(7) of the Clean Air Act (“CAA”), 42 U.S.C. 7412(r)(7), and at BPI's meat processing facility in South Sioux City, Nebraska (“South Sioux City Facility”), in violation of Section 103(a) of the Comprehensive Environmental Response, Compensation and Liability Act, 42 U.S.C. 9603(a). The proposed consent decree requires BPI to retain an independent third party expert to conduct extensive compliance audits at its South Sioux City Facility, as well as its Waterloo Facility and its meat processing facility in Holcomb, Kansas, if they reopen. BPI will also pay a civil penalty of $450,000 to the United States.

The publication of this notice opens a period for public comment on the proposed Consent Decree. Comments should be addressed to the Assistant Attorney General, Environment and Natural Resources Division, and should refer to United States v. Beef Products, Inc., D.J. Ref. No. 90-5-2-1-10504. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $9.75 (25 cents per page reproduction cost) payable to the United States Treasury.

Robert E. Maher, Jr.,
Assistant Section Chief, Environmental Enforcement Section, Environment and Natural Resources Division.

[FR Doc. 2013-11014 Filed 5-8-13; 8:45 am]

BILLING CODE 4410-15-P